DEPARTMENT OF TRANSPORTATION

Federal Aviation Administration

14 CFR Part 39

[Docket No. FAA-2014-0618; Directorate Identifier 2012-NM-171-AD]

RIN 2120-AA64

Airworthiness Directives; Airbus Airplanes

AGENCY: Federal Aviation Administration (FAA), DOT.

ACTION: Notice of proposed rulemaking (NPRM).

SUMMARY: We propose to supersede Airworthiness Directive (AD) 2008-06-18, for all Airbus Model A300 B4-600, B4-600R, and F4-600R series airplanes, and Model A300 C4-605R Variant F airplanes (collectively called Model A300-600 series airplanes) and Model A300 series airplanes. AD 2008-06-18 currently requires repetitive inspections for any cracking of the wing lower skin panel and associated internal support structure, and if necessary, corrective actions such as modifying the lower panel inboard of rib 9 aft of the rear spar and repairing cracks. Since we issued AD 2008-06-18, we have received a report that information from an analysis and fleet survey show a need for reduced compliance times and intervals. This proposed AD would continue to require the existing requirements, and would reduce some compliance times. We are proposing this AD to detect and correct cracking, which could lead to reduced structural integrity of the airplane.

DATES: We must receive comments on this proposed AD by October 20, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2014-0618; Directorate Identifier 2012-NM-171-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On March 7, 2008, we issued AD 2008-06-18, Amendment 39-15430 (73 FR 14670, March 19, 2008). AD 2008-06-18 requires actions intended to address an unsafe condition on all Airbus Model A300 B4-600, B4-600R, and F4-600R series airplanes, and Model A300 C4-605R Variant F airplanes (collectively called Model A300-600 series airplanes) and Model A300 series airplanes.

Since we issued AD 2008-06-18, Amendment 39-15430 (73 FR 14670, March 19, 2008), we have received a report that information from an analysis and fleet survey show a need for reduced compliance times and intervals.

The European Aviation Safety Agency (EASA), which is the Technical Agent for the Member States of the European Community, has issued EASA Airworthiness Directive 2012-0203, dated October 1, 2012 (referred to after this as the Mandatory Continuing Airworthiness Information, or “the MCAI”), to correct an unsafe condition for all Airbus Model A300 B4-600, B4-600R, and F4-600R series airplanes, and Model A300 C4-605R Variant F airplanes (collectively called Model A300-600 series airplanes) and Model A300 series airplanes. The MCAI states:

During routine maintenance, cracks were found in the wing bottom skin and in the associated internal support structure on an A300 aeroplane aft of the rear spar and inboard of rib 9. Initially, cracks were found in the skin only, starting from a fastener close to the forward outboard corner of access panel 575FB/675FB. Subsequently, cases were reported of cracks being found in the skin support strap and the stiffener.

This condition, if not detected and corrected, could affect the structural integrity of the aeroplane.

To address this unsafe condition, EASA issued AD 2006-0282 [http://ad.easa.europa.eu/ad/2006-0282] [which corresponds with FAA AD 2008-06-18, Amendment 39-15430 (73 FR 14670, March 19, 2008)] to require repetitive inspections of the wing lower skin panel and associated internal support structure aft of the rear spar and inboard of rib 9.

Since that [EASA] AD was issued, the results of a fleet survey and updated Fatigue and Damage Tolerance analysis, which were performed in order to substantiate the second A300 and A300-600 Extended Service Goal (ESG2) exercise, revealed that the inspection threshold and interval had to be reduced to allow timely detection of cracks and the accomplishment of an applicable corrective action.

Prompted by these findings, Airbus issued Revision 05 of Airbus Service Bulletin (SB) A300-57-0177 and Revision 07 of Airbus SB A300-57-6029.

For the reasons described above, this [EASA] AD retains the requirements of EASA AD 2006-0282, which is superseded, but requires the accomplishment of those actions within reduced thresholds and intervals.

You may examine the MCAI in the AD docket on the Internet at http://www.regulations.gov by searching for and locating Docket No. FAA-2014-0618.

Relevant Service Information

Airbus has issued Service Bulletin A300-57-6029, Revision 08, dated April 25, 2013. The compliance times for the initial inspections range approximately from 160 flight cycles or 270 flight hours, whichever occurs first, to 49,300 flight cycles or 98,700 flight hours, whichever occurs first, depending on the model and configuration. The repetitive intervals range from 30 flight cycles or 40 flight hours, whichever occurs first, to 3,800 flight cycles or 7,700 flight hours, whichever occurs first, depending on the model and configuration. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Changes to AD 2008-06-18, Amendment 39-15430 (73 FR 14670, March 19, 2008)

This proposed AD would retain all requirements of AD 2008-06-18, Amendment 39-15430 (73 FR 14670, March 19, 2008). Since AD 2008-06-18 was issued, the AD format has been revised, and certain paragraphs have been rearranged. As a result, the corresponding paragraph identifiers have changed in this proposed AD, as listed in the following table:

Revised Paragraph Identifiers
Requirement in AD 2008-06-18, Amendment 39-15430 (73 FR 14670, March 19, 2008 | Corresponding requirement in this proposed AD
paragraph (f) | paragraph (g)

Paragraph (f)(3) of AD 2008-06-18, Amendment 39-15430 (73 FR 14670, March 19, 2008), contains a typographical error. That error resulted in a reference to paragraph “(e)(f)(ii)” of AD 2008-06-18. The correct reference is to paragraph (f)(3)(ii) of AD 2008-06-18. Since the AD format has been revised and certain paragraphs have been rearranged, the reference is now to paragraph (g)(3)(ii) of the proposed AD.

“Contacting the Manufacturer” Paragraph in This Proposed AD

Since late 2006, we have included a standard paragraph titled “Airworthy Product” in all MCAI ADs in which the FAA develops an AD based on a foreign authority's AD.

The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In an NPRM having Directorate Identifier 2012-NM-101-AD (78 FR 78285, December 26, 2013), we proposed to prevent the use of repairs that were not specifically developed to correct the unsafe condition, by requiring that the repair approval provided by the State of Design Authority or its delegated agent specifically refer to the FAA AD. This change was intended to clarify the method of compliance and to provide operators with better visibility of repairs that are specifically developed and approved to correct the unsafe condition. In addition, we proposed to change the phrase “its delegated agent” to include a design approval holder (DAH) with State of Design Authority design organization approval (DOA), as applicable, to refer to a DAH authorized to approve required repairs for the proposed AD.

One commenter to the NPRM having Directorate Identifier 2012-NM-101-AD (78 FR 78285, December 26, 2013) stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this proposed AD to obtain corrective actions from a manufacturer, the actions must be accomplished using a method approved by the FAA, the European Aviation Safety Agency (EASA), or Airbus's EASA DOA.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH throughout this proposed AD.

Costs of Compliance

We estimate that this proposed AD affects 162 airplanes of U.S. registry.

The actions that are required by AD 2008-06-18, Amendment 39-15430 (73 FR 14670, March 19, 2008), and retained in this proposed AD take about 2 work-hours per product, at an average labor rate of $85 per work-hour. Based on these figures, the estimated cost of the actions that are required by AD 2008-06-18 is $170 per product.

We also estimate that it would take about 2 work-hours per product to comply with the basic requirements of this proposed AD. The average labor rate is $85 per work-hour. Based on these figures, we estimate the cost of this proposed AD on U.S. operators to be $27,540, or $170 per product.

In addition, we estimate that any necessary follow-on actions would take about 12 work-hours and require parts costing $10,000, for a cost of $11,020 per product. We have no way of determining the number of aircraft that might need these actions.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591. ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-06-18, Amendment 39-15430 (73 FR 14670, March 19, 2008), and adding the following new AD:

Airbus: Docket No. FAA-2014-0618; Directorate Identifier 2012-NM-171-AD.

(a) Comments Due Date

We must receive comments by October 20, 2014.

(b) Affected ADs

This AD replaces AD 2008-06-18, Amendment 39-15430 (73 FR 14670, March 19, 2008).

(c) Applicability

This AD applies to the airplanes identified in paragraphs (c)(1) through (c)(5) of this AD, certificated in any category, all certified models, all serial numbers.

(1) Airbus Model A300 B2-1A, B2-1C, B2K-3C, B2-203, B4-2C, B4-103, and B4-203 airplanes.

(2) Airbus Model A300 B4-601, B4-603, B4-620, and B4-622 airplanes.

(3) Airbus Model A300 B4-605R and B4-622R airplanes.

(4) Airbus Model A300 F4-605R and F4-622R airplanes.

(5) Airbus Model A300 C4-605R Variant F airplanes.

(d) Subject

Air Transport Association (ATA) of America Code 57, Wings.

(e) Reason

This AD was prompted by a report that information from an analysis and fleet survey show a need for reduced compliance times and intervals. We are issuing this AD to detect and correct cracking, which could lead to reduced structural integrity of the airplane.

(f) Compliance

You are responsible for having the actions required by this AD performed within the compliance times specified, unless the actions have already been done.

(g) Retained Actions and Compliance Times With Revised Service Information

This paragraph restates the requirements of paragraph (f) of AD 2008-06-18, Amendment 39-15430 (73 FR 14670, March 19, 2008), with revised service information. Unless already done, do the following actions.

(1) Except as provided by paragraphs (g)(1)(i), (g)(1)(ii), (g)(1)(iii), (g)(1)(iv), and (h) of this AD: At the threshold specified in paragraph 1.E.(2) of Airbus Service Bulletin A300-57-0177, Revision 05, dated March 23, 2007 (for Model A300 series airplanes); Airbus Service Bulletin A300-57-6029, Revision 06, dated March 23, 2007 (for Model A300-600 series airplanes); or Airbus Service Bulletin A300-57-6029, Revision 08, dated April 25, 2013 (for Model A300-600 series airplanes); as applicable; perform the inspection of the wing lower skin panel and associated internal support structure aft of the rear spar and inboard of rib 9 and apply applicable corrective measures in accordance with Airbus Service Bulletin A300-57-0177, Revision 05, dated March 23, 2007 (for Model A300 series airplanes); or Airbus Service Bulletin A300-57-6029, Revision 06, dated March 23, 2007 (for Model A300-600 series airplanes); or Airbus Service Bulletin A300-57-6029, Revision 08, dated April 25, 2013 (for Model A300-600 series airplanes); as applicable. All applicable corrective measures must be done at the applicable times specified in paragraph 1.E.(2) and the Accomplishment Instructions of Airbus Service Bulletin A300-57-0177, Revision 05, dated March 23, 2007 (for Model A300 series airplanes); Airbus Service Bulletin A300-57-6029, Revision 06, dated March 23, 2007 (for Model A300-600 series airplanes); or Airbus Service Bulletin A300-57-6029, Revision 08, dated April 25, 2013 (for Model A300-600 series airplanes); as applicable. Accomplishing the requirements of paragraph (h) of this AD terminates the requirements of this paragraph for Model A300-600 airplanes.

(i) Where the tables in paragraph 1.E.(2), “Accomplishment Timescale,” of Airbus Service Bulletin A300-57-0177, Revision 05, dated March 23, 2007; A300-57-6029, Revision 06, dated March 23, 2007; specify a grace period for doing the actions, this AD requires that the actions be done within the specified grace period relative to April 23, 2008 (the effective date of AD 2008-06-18, Amendment 39-15430 (73 FR 14670, March 19, 2008)).

(ii) Where the tables in paragraph 1.E.(2)(e), “Config 04,” of Airbus Service Bulletin A300-57-0177, Revision 05, dated March 23, 2007, specify an inspection interval but not an initial threshold, this AD requires that the actions be done within the specified interval after inspecting in accordance with Table 1A or 1B, as applicable, for Configuration 01 airplanes described in the service bulletin and thereafter at the inspection interval specified in the tables in paragraph 1.E.(2)(e), “Config 04,” of Airbus Service Bulletin A300-57-0177, Revision 05, dated March 23, 2007.

(iii) Where the tables in paragraph 1.E.(2)(f), “Config 05,” of Airbus Service Bulletin A300-57-6029, Revision 06, dated March 23, 2007, specify an inspection interval but not an initial threshold, this AD requires that the actions be done within the specified interval after inspecting in accordance with Table 1A, or 1B, as applicable, for configuration 01 of Airbus Service Bulletin A300-57-6029, Revision 06, dated March 23, 2007, and thereafter at the inspection interval specified in the tables in paragraph 1.E.(2)(f), “Config 05,” of Airbus Service Bulletin A300-57-6029, Revision 06, dated March 23, 2007.

(iv) All crack lengths specified in Airbus Service Bulletin A300-57-0177, Revision 05, dated March 23, 2007; and A300-57-6029, Revision 06, dated March 23, 2007, are considered “not to exceed” lengths.

(2) Repeat the inspection at the intervals in, and according to the instructions defined in, Airbus Service Bulletin A300-57-0177, Revision 05, dated March 23, 2007 (for Model A300 series airplanes); Airbus Service Bulletin A300-57-6029, Revision 06, dated March 23, 2007 (for Model A300-600 series airplanes); or Airbus Service Bulletin A300-57-6029, Revision 08, dated April 25, 2013 (for Model A300-600 series airplanes); as applicable; except where Airbus Service Bulletin A300-57-0177, Revision 05, dated March 23, 2007, specifies repetitive inspections for cracking if Airbus Service Bulletin A300-57-022 has not been embodied, this AD requires doing repetitive inspections for cracking if Airbus Service Bulletin A300-57-0222 (modification 11178H5410) has not been embodied.

(3) Report to Airbus the first inspection results, whatever they may be, at the applicable time specified in paragraph (g)(3)(i) or (g)(3)(ii) of this AD.

(i) If the inspection was done after April 23, 2008 (the effective date of AD 2008-06-18, Amendment 39-15430 (73 FR 14670, March 19, 2008)), submit the report within 30 days after the inspection.

(ii) If the inspection was accomplished prior to April 23, 2008 (the effective date of AD 2008-06-18, Amendment 39-15430 (73 FR 14670, March 19, 2008)), submit the report within 30 days after April 23, 2008.

(h) New Requirement of This AD: New Compliance Times for Model A300-600 Airplanes

For Model A300-600 airplanes, do the actions specified in paragraphs (h)(1) through (h)(3) of this AD at the applicable times specified in those paragraphs.

(1) Except as provided by paragraphs (h)(1)(i) and (h)(1)(ii) of this AD: Within the compliance times specified in Airbus Service Bulletin A300-57-6029, Revision 08, dated April 25, 2013, perform the inspection of the wing lower skin panels and associated internal support structures aft of the rear spar and inboard of rib 9, in accordance with the Accomplishment Instructions of Airbus Service Bulletin A300-57-6029, Revision 08, dated April 25, 2013. Thereafter, repeat these inspections at intervals specified in Airbus Service Bulletin A300-57-6029, Revision 08, dated April 25, 2013. Accomplishment of the actions required by this paragraph terminates the requirements of paragraph (g) of this AD for Model A300-600 airplanes.

(i) Where the tables in paragraph 1.E.(2), “Accomplishment Timescale,” of Airbus Service Bulletin A300-57-6029, Revision 08, dated April 25, 2013, specify a grace period for doing the actions for airplanes that have exceeded the thresholds, this AD requires, for all airplanes, that the actions be done within the specified grace period after the effective date of this AD or before the specified thresholds, whichever occurs later.

(ii) Where Airbus Service Bulletin A300-57-6029, Revision 08, dated April 25, 2013, specifies to “contact Airbus” before further flight, this AD requires repairing using a method approved by the Manager, International Branch, ANM-116, Transport Airplane Directorate, FAA; or European Aviation Safety Agency (EASA); or Airbus's EASA Design Organization Approval (DOA); and accomplishing those actions before further flight. If approved by the DOA, the approval must include the DOA-authorized signature.

(2) If, during any inspection as required by paragraph (h)(1) of this AD, discrepancies are detected, before next flight, accomplish the applicable corrective actions, in accordance with the Accomplishment Instructions of Airbus Service Bulletin A300-57-6029, Revision 08, dated April 25, 2013.

(3) Corrective actions, as required by paragraph (h)(2) of this AD, do not constitute terminating action for the repetitive inspection requirements of paragraph (h)(1) of this AD.

(i) Credit for Previous Actions

(1) This paragraph provides credit for actions required by paragraph (g) of this AD, if those actions were performed before April 23, 2008 (the effective date of AD 2008-06-18, Amendment 39-15430 (73 FR 14670, March 19, 2008)), using the applicable service information identified in paragraphs (i)(1)(i) through (i)(1)(iv) of this AD, which are not incorporated by reference by this AD.

(i) Airbus Service Bulletin A300-57-0177, Revision 03, dated May 29, 2006.

(ii) Airbus Service Bulletin A300-57-0177, Revision 04, dated January 5, 2007.

(iii) Airbus Service Bulletin A300-57-6029, Revision 04, dated May 29, 2006.

(iv) Airbus Service Bulletin A300-57-6029, Revision 05, dated October 23, 2006.

(2) This paragraph provides credit for actions required by paragraph (g) or (h) of this AD, if those actions were performed before the effective date of this AD, using Airbus Service Bulletin A300-57-6029, Revision 07, dated June 6, 2011, which is not incorporated by reference by this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously for AD 2008-06-18, Amendment 39-15430 (73 FR 14670, March 19, 2008) are considered acceptable for this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Related Information

(1) Refer to Mandatory Continuing Airworthiness Information (MCAI) European Aviation Safety Agency Airworthiness Directive 2012-0203, dated October 1, 2012, for related information. This MCAI may be found in the AD docket on the Internet at http://www.regulations.gov by searching for and locating Docket No. FAA-2014-0618.

(2) For service information identified in this AD, contact Airbus SAS Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on August 23, 2014.
Michael Kaszycki,
Acting Manager, Transport Airplane Directorate, Aircraft Certification Service.

[FR Doc. 2014-20917 Filed 9-2-14; 8:45 am]

BILLING CODE 4910-13-P